DEPARTMENT OF AGRICULTURE

Rural Utilities Service

Announcement of Grant Application Deadlines and Funding Levels

AGENCY: Rural Utilities Service, USDA.

ACTION: Notice of Solicitation of Applications (NOSA).

SUMMARY: The Rural Utilities Service (RUS), an agency of the United States Department of Agriculture (USDA), herein referred to as RUS or the Agency, announces its Distance Learning and Telemedicine (DLT) Grant Program application window for Fiscal Year (FY) 2016. This notice is being issued in order to allow potential applicants time to submit proposals and give the Agency time to process applications within the current fiscal year. RUS will publish on its Web site at http://www.rd.usda.gov/newsroom/notices-solicitation-applications-nosas the amount of funding received in the final appropriations act.

In addition to announcing the application window, RUS announces the minimum and maximum amounts for DLT grants applicable for the fiscal year. The DLT Grant Program regulation can be found at 7 part CFR 1703 (Subparts D through E).

DATES: Submit completed paper or electronic applications for grants according to the following deadlines:

• Paper submissions: Paper submissions must be postmarked and mailed, shipped, or sent overnight no later than March 14, 2016 to be eligible for FY 2016 grant funding. Late or incomplete applications will not be eligible for FY 2016 grant funding.

• Electronic submissions: Electronic submissions must be received no later than March 14, 2016 to be eligible for FY 2016 grant funding. Late or incomplete applications will not be eligible for FY 2016 grant funding.

• If the submission deadline falls on Saturday, Sunday, or a Federal holiday, the application is due the next business day.

ADDRESSES: Copies of the FY 2016 Application Guide and materials for the DLT Grant Program may be obtained through:

(1) The DLT Web site at http://www.rd.usda.gov/programs-services/distance-learning-telemedicine-grants, or

(2) The RUS Office of Loan Origination and Approval at (202) 720-0800.

Completed applications may be submitted the following ways:

(1) Paper: Mail paper applications to the Rural Utilities Service, Telecommunications Program, 1400 Independence Ave. SW., Room 2808, STOP 1597, Washington, DC 20250-1597. Mark address with, “Attention: Deputy Assistant Administrator, Office of Loan Origination and Approval, Rural Utilities Service.”

(2) Electronic: Submit electronic applications through Grants.gov. Information on electronic submission is available on the Grants.gov Web site (http://www.grants.gov) at any time, regardless of registration status. However, applicants must pre-register with Grants.gov to use the electronic applications option.

FOR FURTHER INFORMATION CONTACT: Shawn Arner, Deputy Assistant Administrator, Office of Loan Origination and Approval, Rural Utilities Service, U.S. Department of Agriculture, telephone: (202) 720-0800, fax: 1 (844) 885-8179.

SUPPLEMENTARY INFORMATION:

Overview

Federal Agency: Rural Utilities Service (RUS).

Funding Opportunity Title: Distance Learning and Telemedicine Grants.

Announcement Type: Initial announcement.

Funding Opportunity Number: RUS-16-01-DLT.

Catalog of Federal Domestic Assistance (CFDA) Number: 10.855.

Dates: Submit completed paper or electronic applications for grants according to the deadlines indicated in Section D(5).

A. Program Description

DLT grants are designed to provide access to education, training, and health care resources for rural Americans. The DLT Program is authorized by 7 U.S.C. 950aaa and provides financial assistance to encourage and improve telemedicine and distance learning services in rural areas through the use of telecommunications, computer networks, and related advanced technologies that students, teachers, medical professionals, and rural residents can use. The regulation for the DLT Program can be found at 7 CFR part 1703 (Subparts D through E).

The grants, which are awarded through a competitive process, may be used to fund telecommunications-enabled information, audio and video equipment, and related advanced technologies which extend educational and medical applications into rural areas. Grants are intended to benefit end-users in rural areas, who are often not in the same location as the source of the educational or health care service.

As in years past, the FY 2016 DLT Grant Application Guide has been updated based on program experience. All applicants should carefully review and prepare their applications according to instructions in the FY 2016 Application Guide and sample materials. Expenses incurred in developing applications will be at the applicant's own risk.

B. Federal Award Information

Under 7 CFR 1703.124, the Administrator established a minimum grant amount of $50,000 and a maximum grant amount of $500,000 for FY 2016.

Award documents specify the term of each award, and the standard grant agreement is available at http://www.rd.usda.gov/files/UTP_2015DLTDraftGrantAgreement.pdf. The Agency will make awards and successful applicants will be required to execute documents appropriate to the project before funding will be advanced. Prior DLT grants cannot be renewed; however, existing DLT awardees can submit applications for new projects which will be evaluated as new applications. Grant applications must be submitted during the application window.

C. Eligibility Information

1. Eligible Applicants (See 7 CFR 1703.103)

a. Only entities legally organized as one of the following are eligible for DLT Grant Program financial assistance:

i. An incorporated organization or a partnership;

ii. An Indian tribe or tribal organization, as defined in 25 U.S.C. 450b;

iii. A state or local unit of government;

iv. A consortium, as defined in 7 CFR 1703.102; or

v. Other legal entity, including a private corporation organized on a for-profit or not-for-profit basis.

b. Electric and telecommunications borrowers under the Rural Electrification Act of 1936 (7 U.S.C. 901 et seq.) are not eligible for DLT grants.

c. Corporations that have been convicted of a Federal felony within the past 24 months are not eligible. Any corporation that has been assessed to have any unpaid federal tax liability, for which all judicial and administrative remedies have been exhausted or have lapsed and is not being paid in a timely manner pursuant to an agreement with the authority responsible for collecting the tax liability, is not eligible for financial assistance.

d. Applicants must have an active registration with current information in the System for Award Management (SAM) (previously the Central Contractor Registry (CCR)) at https://www.sam.gov and have a Dun and Bradstreet (D&B) Data Universal Numbering System (DUNS) number. Further information regarding SAM registration and DUNS number acquisition can be found in Sections D(3) and D(4) of this notice.

2. Cost Sharing or Matching

The DLT Program requires matching contributions for grants. See 7 CFR 1703.122, 1703.125(g), and the FY 2016 Application Guide for information on required matching contributions.

a. Grant applicants must demonstrate matching contributions, in cash or in kind (new, non-depreciated items), of at least fifteen (15) percent of the total amount of financial assistance requested. Matching contributions must be used for eligible purposes of DLT grant assistance (see 7 CFR 1703.121 and Section D(7)(b) of this Notice).

b. Greater amounts of eligible matching contributions may increase an applicant's score (see 7 CFR 1703.126(b)(4)).

c. Applications that do not provide sufficient documentation of the required fifteen percent match will be declared ineligible.

d. Discounts and Donations. In review of applications submitted in FY 2014 and FY 2015, it was determined that vendor donated matches did not have any value without a corresponding purchase of additional equipment proposed to be purchased with grant funds. For example, for many of the proposed grant applications, software licenses were donated in support of grant applications. Without a corresponding purchase of the same vendor's equipment, this donation would have no value towards the project. This is considered a vendor discount which has never been eligible under this program. As a result, such matches were determined to be ineligible, which in some cases disqualified applicants from further consideration. In kind matches from vendors are, therefore, no longer considered eligible. This is consistent with past practices prior to FY 2014.

e. Eligible Equipment and Facilities. See 7 CFR 1703.102 and the FY 2016 Application Guide for more information regarding eligible and ineligible items.

3. Other

a. Minimum Rurality Requirements. To meet the minimum rurality requirements, applicants must propose end-user sites that accrue a total average score of at least twenty (20) points. To receive points, an end-user site must not be located within the boundaries of any incorporated or unincorporated city, village, or borough having a population in excess of 20,000 inhabitants. For more information regarding rurality requirements and scoring, see 7 CFR 1703.126(b)(2) and the FY 2016 Application Guide.

i. Hub sites may be located in rural or non-rural areas, but end-user sites need to be located in rural areas. If a hub is utilized as an end-user site, the hub will be considered and scored as such.

ii. If a grant application includes a site that is included in any other DLT grant application for FY 2016, or a site that has been included in any DLT grant funded in FY 2015 or FY2014, the application should contain a detailed explanation of the related applications or grants. The Agency may not approve grants that lack a clear explanation to justify a nonduplication finding.

b. Ineligibility of Projects in Coastal Barrier Resources Act Areas. Projects located in areas covered by the Coastal Barrier Resources Act (16 U.S.C. 3501 et seq.) are not eligible for financial assistance from the DLT Program. See 7 CFR 1703.123(a)(11).

D. Application and Submission Information

The FY 2016 Application Guide provides specific, detailed instructions for each item in a complete application. The Agency emphasizes the importance of including every required item and strongly encourages applicants to follow the instructions carefully, using the examples and illustrations in the FY 2016 Application Guide. Applications submitted by the application deadline, but missing critical items, will be returned as ineligible. The Agency will not solicit or consider scoring eligibility information that is submitted after the application deadline. However, depending on the specific scoring criteria, applications that do not include all items necessary for scoring may still be eligible applications, but may not receive full or any credit if the information cannot be verified. See the FY 2016 Application Guide for a full discussion of each required item. For requirements of completed grant applications, refer to 7 CFR 1703.125.

1. Address to Request Application Package. The FY 2016 Application Guide, copies of necessary forms and samples, and the DLT Program Regulation are available from these sources:

a. Electronic Copies are available at http://www.rd.usda.gov/programs-services/distance-learning-telemedicine-grants.

b. Paper Copies are available from the Rural Utilities Service, Office of Loan Origination and Approval, (202) 720-0800.

2. Content and Form of Application Submission

a. Carefully review the DLT Application Guide and the 7 CFR part 1703, which detail all necessary forms and worksheets. A table summarizing the necessary components of a complete application can be found in this section.

b. Description of Project Sites. Most DLT grant projects contain several project sites. Site information must be consistent throughout the application. The Agency has provided a site worksheet that lists the required information. Applicants should complete the site worksheet with all requisite information. Applications without consistent site information will be returned as ineligible.

c. Submission of Application Items. Given the high volume of program interest, applicants should submit the required application items in the order indicated in the FY 2016 Application Guide. Applications that are not assembled and tabbed in the specified order prevent timely determination of eligibility. For applications with inconsistencies among submitted copies, the Agency will base its evaluation on the original signed application received.

d. Table of Required Application Items.

Application item | Regulation | Comments
SF-424 (Application for Federal Assistance Form) | 7 CFR 1703.125(a) | Form provided in FY 2016 Application Tool Kit.
Executive Summary of the Project | 7 CFR 1703.125(b) | Narrative.
Scoring Criteria Documentation | 7 CFR 1703.125(c) | Narrative.
Scope of Work | 7 CFR 1703.125(d) | Narrative & Documentation.
Financial Information and Sustainability | 7 CFR 1703.125(e) | Narrative.
Statement of Experience | 7 CFR 1703.125(f) | Narrative
Telecommunications System Plan | 7 CFR 1703.125(h) | Documentation.
Leveraging Evidence and Funding Commitments from all Sources | 7 CFR 1703.125(g) | Agency Worksheet and narrative.
Equal Opportunity and Nondiscrimination | 7 CFR part 15 subpart A | Form provided in FY 2016 Application Tool Kit.
Architectural Barriers | 7 CFR 1703.125(i) | Form provided in FY 2016 Application Tool Kit.
Flood Hazard Area Precautions | 7 CFR 1703.125(i) | Form provided in FY 2016 Application Tool Kit.
Uniform Relocation Assistance and Real Property Acquisition Policies Act of 1970 | 7 CFR part 21 | Form provided in FY 2016 Application Tool Kit.
Drug-Free Workplace | 2 CFR part 182 and 2 CFR part 421 | Form provided in FY 2016 Application Tool Kit.
Debarment, Suspension, and Other Responsibility Matters | 2 CFR part 417 | Form provided in FY 2016 Application Tool Kit.
Lobbying for Contracts, Grants, Loans, and Cooperative Agreements | 2 CFR part 418 | Form provided in FY 2016 Application Tool Kit.
Non-Duplication of Services |  | Form provided in FY 2016 Application Tool Kit.
Federal Collection Policies for Commercial Debt |  | Form provided in FY 2016 Application Tool Kit.
Assurance Regarding Felony Conviction or Tax Delinquent Status for Corporate Applicants |  | Form provided in FY 2016 Application Tool Kit.
Environmental Impact/Historic Preservation | 7 CFR part 1794, and any successor regulation | Form provided in FY 2016 Application Tool Kit.
Evidence of Legal Existence and Authority to Contract with the Federal Government | 7 CFR 1703.125(k) | Documentation.
Consultation with USDA State Director and State Strategic Plan Conformity | 7 CFR 1703.125(m) | Documentation.
Special Considerations | 7 CFR 1703.125(p) | Applicants seeking Special Consideration: Documentation supporting end-user site is in a Trust Area, Tribal Jurisdiction, or “Strike Force” Area.

e. Number of copies of submitted applications.

i. Applications submitted on paper. Submit the original application and one (1) paper copy to RUS, as well as one digital copy on a CD/DVD or Flash Drive. Additionally, submit one (1) additional copy to the state government single point of contact as described below.

ii. Applications submitted electronically. Submit the electronic application once. The additional paper copy is unnecessary to send. Applicants should identify and number each page in the same manner as the paper application. Additionally, submit one (1) additional copy to the state government single point of contact as described below.

iii. State Government Single Point of Contact. Submit one (1) copy to the state government single point of contact, if one has been designated, at the same time as application submission to the Agency. If the project is located in more than one State, submit a copy to each state government single point of contact. See http://www.whitehouse.gov/omb/grants_spoc for an updated listing of State government single points of contact.

3. Dun and Bradstreet Universal Numbering System (DUNS) Number. The applicant for a grant must supply a Dun and Bradstreet Data Universal Numbering System (DUNS) number as part of the application. The applicant can obtain the DUNS number free of charge by calling Dun and Bradstreet. Go to http://fedgov.dnb.com/webform for more information on DUNS number acquisition or confirmation.

4. System for Award Management (SAM). Prior to submitting a paper or an electronic application, the applicant must register in the System for Award Management (SAM) at https://www.sam.gov/portal/public/SAM/. Throughout the RUS application review and the active Federal grant funding period, SAM registration must be active with current data at all times. To maintain active SAM registration, the applicant must review and update the information in the SAM database annually from the date of initial registration or from the date of the last update. The applicant must ensure that the information in the database is current, accurate, and complete.

5. Submission Dates and Times

a. Paper applications must be postmarked and mailed, shipped, or sent overnight no later than March 14, 2016 to be eligible for FY 2016 grant funding. Late applications, applications which do not include proof of mailing or shipping, and incomplete applications are not eligible for FY 2016 grant funding. In the event of an incomplete application, the Agency will notify the applicant in writing, return the application, and terminate all further action.

i. Address paper applications to the Telecommunications Program, RUS, U.S. Department of Agriculture, 1400 Independence Ave. SW., Room 2808, STOP 1597, Washington, DC 20250-1597. Applications should be marked, “Attention: Deputy Assistant Administrator, Office of Loan Origination and Approval.”

ii. Paper applications must show proof of mailing or shipping by the deadline consisting of one of the following:

A. A legibly dated U.S. Postal Service (USPS) postmark;

B. A legible mail receipt with the date of mailing stamped by the USPS; or

C. A dated shipping label, invoice, or receipt from a commercial carrier.

iii. Due to screening procedures at the U.S. Department of Agriculture, packages arriving via regular mail through the USPS are irradiated, which can damage the contents and delay delivery to the DLT Program. RUS encourages applicants to consider the impact of this procedure in selecting their application delivery method.

b. Electronic grant applications must be received no later than March 14, 2016 to be eligible for FY 2016 funding. Late or incomplete applications will not be eligible for FY 2016 grant funding.

i. Applications will not be accepted via fax or electronic mail.

ii. Electronic applications for grants must be submitted through the Federal government's Grants.gov initiative at http://www.grants.gov/. Grants.gov contains full instructions on all required passwords, credentialing and software.

iii. Grants.gov requires some credentialing and online authentication procedures. These procedures may take several business days to complete. Therefore, the applicant should complete the registration, credentialing, and authorization procedures at Grants.gov before submitting an application.

iv. Applicants must obtain a Dun and Bradstreet Data Universal Numbering System (DUNS) number as well as have current registration with the System for Award Management (SAM). Further information on DUNS and SAM can be found in sections D(3) and D(4) of this notice as well as in the FY 2016 Application Guide.

v. If system errors or technical difficulties occur, use the customer support resources available at the Grants.gov Web site.

c. If the submission deadline falls on Saturday, Sunday, or a Federal holiday, the application is due the next business day.

6. Intergovernmental Review

The DLT Grant Program is subject to Executive Order 12372, “Intergovernmental Review of Federal Programs.” As stated in section D(2)(e)(iii) of this notice, a copy of a DLT grant application must be submitted to the state single point of contact, if one has been designated. See http://www.whitehouse.gov/omb/grants_spoc to review the states' single points of contact.

7. Funding Restrictions

a. Hub sites not located in rural areas are not eligible for grant assistance unless they are necessary to provide DLT services to end-users in rural areas. See 7 CFR 1703.101(h).

b. Table of Ineligible and Eligible Items. The following table includes a list of common items and whether each item is eligible for financial assistance. Applicants should exclude ineligible items and ineligible matching contributions from the budget unless those items are clearly documented as vital to the project. See the FY 2016 Application Guide for a recommended budget format and detailed budget compilation instructions.

| Grants
Lease or purchase of new eligible DLT equipment and facilities | Yes, equipment only.
Acquire new instructional programming that is capital asset | Yes.
Technical assistance, develop instructional material for the operation of the equipment, and engineering or environmental studies in the implementation of the project | Yes, up to 10% of the grant.
Telemedicine or distance learning equipment or facilities necessary to the project | Yes.
Vehicles using distance learning or telemedicine technology to deliver services | No.
Teacher-student links located at the same facility | No.
Links between medical professionals located at the same facility | No.
Site development or building alteration, except for equipment installation and associated inside wiring | No.
Land or building purchase | No.
Building Construction | No.
Acquiring telecommunications transmission facilities | No (such facilities are only eligible for DLT loans).
Internet services, telecommunications services or other forms of connectivity | No.
Salaries, wages, benefits for medical or educational personnel | No.
Salaries or administrative expenses of applicant or project | No.
Recurring project costs or operating expenses | No (equipment & facility leases are not recurring project costs).
Equipment to be owned by the LEC or other telecommunications service provider, if the provider is the applicant | No.
Duplicative distance learning or telemedicine services | No.
Any project that for its success depends on additional DLT financial assistance or other financial assistance that is not assured | No.
Application Preparation Costs | No.
Other project costs not in regulation | No.
Cost (amount) of facilities providing distance learning broadcasting | No.
Reimburse applicants or others for costs incurred prior to RUS receipt of completed application | No.

E. Application Review Information

1. Criteria

Grants applications are scored competitively and are subject to the criteria listed below (total possible points: 235). See 7 CFR 1703.126 and the FY 2016 Application Guide for more information on the scoring criteria.

a. Needs and Benefits Category. An analysis addressing the challenges imposed by the following criteria and how the project proposes to address these issues, as well as, the local community involvement in planning and implementing the project (up to 55 points):

i. Economic characteristics.

ii. Educational challenges.

iii. Health care needs.

b. Rurality Category. Rurality of the proposed service area (up to 45 points).

c. Economic Need Category. Percentage of students eligible for the National School Lunch Plan (NSLP) in the proposed service area (up to 35 points).

d. Leveraging Category. Matching funds above the required matching level (up to 35 points).

e. Innovativeness Category. Level of innovation demonstrated by the project (up to 15 points).

f. Cost Effectiveness Category. System cost-effectiveness (up to 35 points).

g. Special Consideration Areas Category. Application must contain at least one end-user site within a trust area or a tribal jurisdiction area, within a “Promise Zone,” or within a “Strike Force” area (15 points).

2. Review and Selection Process

Grant applications are ranked by the final score. RUS selects applications based on those rankings, subject to the availability of funds. In addition, the Agency has the authority to limit the number of applications selected in any one state or for any one project during a fiscal year. See 7 CFR 1703.127 for a description of the grant application selection process. In addition, it should be noted that an application receiving fewer points can be selected over a higher scoring application in the event that there are insufficient funds available to cover the costs of the higher scoring application, as stated in 7 CFR 1703.172(b)(3).

a. In addition to the scoring criteria that rank applications against each other, the Agency evaluates grant applications on the following items, in accordance with 7 CFR 1703.127:

i. Financial feasibility. A proposal that does not indicate financial feasibility or that is not sustainable will not be approved for an award.

ii. Technical considerations. An application that contains flaws that would prevent the successful implementation, operation, or sustainability of the project will not be approved for an award.

iii. Other aspects of proposals that contain inadequacies that would undermine the ability of the project to comply with the policies of the DLT Program.

b. Special considerations or preferences.

i. American Samoa, Guam, Virgin Islands, and Northern Mariana Islands applications are exempt from the matching requirement for awards having a match amount of up to $200,000 (see 48 U.S.C. 1469a; 91 Stat. 1164).

ii. Tribal Jurisdiction or Trust Areas. RUS will offer special consideration to applications that contain at least one end-user site within a trust area or a tribal jurisdictional area. Such applications will be awarded 15 points. The application must include a map that shows the end-user site(s) located in the trust or tribal jurisdictional areas and cites the geographical coordinates and physical address(es) of the end-user site(s). The applicant will also need to submit evidence indicating that the area where the end-user site is located is a trust area or a tribal jurisdictional area. See the DLT Grant Program regulation as well as the FY 2016 Application Guide for a list of accepted documentation.

iii. “Promise Zone” Areas. RUS will offer special consideration to applications that contain at least one end-user site within a “Promise Zone” area. Such applications will be awarded 15 points. The application must include a map that shows the end-user site(s) located in the “Promise Zone” area and cites the geographical coordinates and physical address(es) of the end-user site(s). Current “Promise Zones” include the South Carolina Low Country, Choctaw Nation, Pine Ridge Indian Reservation, and the Kentucky Highlands. For further information, see the “Promise Zone” Web site at http://www.hud.gov/promisezones/.

iv. “Strike Force” Areas. RUS will offer special consideration to applications that contain at least one end-user site within a “Strike Force” area. Such applications will be awarded 15 points. The application must include a map that shows the end-user site(s) located in the “Strike Force” area and cites the geographical coordinates and physical address(es) of the end-user site(s). For further information, see the “Strike Force” Web site at http://www.usda.gov/wps/portal/usda/usdamobile?navid=STRIKE_FORCE.

c. Clarification: DLT grant applications which have non-fixed end-user sites, such as ambulance and home health care services, are scored according to the location of the hub or hubs used for the project. For Hybrid Projects which combine a non-fixed portion of a project to a fixed portion of a project, the Rurality Score and NSLP score will be based on the score of the end sites of the fixed portion plus the score of the hub that serves the non-fixed portion. See the FY 2016 Application Guide for specific guidance on preparing an application with non-fixed end-users.

F. Federal Award Administration Information

1. Federal Award Notices

RUS notifies applicants whose projects are selected for awards by mailing or emailing a copy of an award letter. The receipt of an award letter does not authorize the applicant to commence performance under the award. After sending the award letter, the Agency will send an agreement that contains all the terms and conditions for the grant. A copy of the standard agreement is posted on the RUS Web site at http://www.rd.usda.gov/programs-services/distance-learning-telemedicine-grants. An applicant must execute and return the grant agreement, accompanied by any additional items required by the agreement, within the number of days specified in the selection notice letter.

2. Administrative and National Policy Requirements

The items listed in Section E of this notice, the DLT Grant Program regulation, FY 2016 Application Guide and accompanying materials implement the appropriate administrative and national policy requirements, which include but are not limited to:

a. Executing a Distance Learning and Telemedicine Grant Agreement.

b. Using Form SF 270, “Request for Advance or Reimbursement,” to request reimbursements (along with the submission of receipts for expenditures, timesheets, and any other documentation to support the request for reimbursement).

c. Providing annual project performance activity reports until the expiration of the award.

d. Ensuring that records are maintained to document all activities and expenditures utilizing DLT grant funds and matching funds (receipts for expenditures are to be included in this documentation).

e. Providing a final project performance report.

f. Complying with policies, guidance, and requirements as described in the following applicable Code of Federal Regulations, and any successor regulations:

i. 2 CFR parts 200 and 400 (Uniform Administrative Requirements, Cost Principles, and Audit Requirements for Federal Awards).

ii. 2 CFR parts 417 and 180 (Government-wide Nonprocurement Debarment and Suspension).

g. Signing Form AD-3031 (“Assurance Regarding Felony Conviction or Tax Delinquent Status for Corporate Applicants”) (for corporate applicants only).

h. Complying with Executive Order 13166, “Improving Access to Services for Persons with Limited English Proficiency.” For information on limited English proficiency and agency-specific guidance, go to http://www.LEP.gov.

3. Reporting

a. Performance reporting. All recipients of DLT financial assistance must provide annual performance activity reports to RUS until the project is complete and the funds are expended. A final performance report is also required; the final report may serve as the last annual report. The final report must include an evaluation of the success of the project in meeting the DLT Grant Program objectives. See 7 CFR 1703.107 for additional information on these reporting requirements.

b. Financial reporting. All recipients of DLT financial assistance must provide an annual audit, beginning with the first year in which a portion of the financial assistance is expended. Audits are governed by United States Department of Agriculture audit regulations. See 7 CFR 1703.108 and 2 CFR part 200 (Subpart F) for a description of the financial reporting requirements.

c. Recipient and Sub-recipient Reporting. The applicant must have the necessary processes and systems in place to comply with the reporting requirements for first-tier sub-awards and executive compensation under the Federal Funding Accountability and Transparency Act of 2006 in the event the applicant receives funding unless such applicant is exempt from such reporting requirements pursuant to 2 CFR 170.110(b). The reporting requirements under the Transparency Act pursuant to 2 CFR part 170 are as follows:

i. First Tier Sub-Awards of $25,000 or more (unless they are exempt under 2 CFR part 170) must be reported by the Recipient to https://www.fsrs.gov no later than the end of the month following the month the obligation was made. Please note that currently underway is a consolidation of eight federal procurement systems, including the Federal Sub-award Reporting System (FSRS), into one system, the System for Award Management (SAM). As a result the FSRS will soon be consolidated into and accessed through https://www.sam.gov/portal/public/SAM/.

ii. The Total Compensation of the Recipient's Executives (the five most highly compensated executives) must be reported by the Recipient (if the Recipient meets the criteria under 2 CFR part 170) to https://www.sam.gov/portal/public/SAM/ by the end of the month following the month in which the award was made.

iii. The Total Compensation of the Sub-recipient's Executives (the five most highly compensated executives) must be reported by the Sub-recipient (if the Sub-recipient meets the criteria under 2 CFR part 170) to the Recipient by the end of the month following the month in which the sub-award was made.

d. Record Keeping and Accounting. The contract will contain provisions related to record keeping and accounting requirements.

G. Federal Awarding Agency Contacts

1. Web site: http://www.rd.usda.gov/programs-services/distance-learning-telemedicine-grants. The DLT Web site maintains up-to-date resources and contact information for DLT programs.

2. Telephone: (202) 720-0800.

3. Fax: 1 (844) 885-8179.

4. Email: dltinfo@wdc.usda.gov.

5. Main point of contact: Shawn Arner, Deputy Assistant Administrator, Office of Loan Origination and Approval, Rural Utilities Service, U.S. Department of Agriculture.

H. Other Information

1. USDA Non-Discrimination Statement

USDA prohibits discrimination against its customers, employees, and applicants for employment on the bases of race, color, national origin, age, disability, sex, gender identity, religion, reprisal, and where applicable, political beliefs, marital status, familial or parental status, sexual orientation, or all or part of an individual's income is derived from any public assistance program, or protected genetic information in employment or in any program or activity conducted or funded by USDA. (Not all prohibited bases will apply to all programs and/or employment activities.)

2. How To File a Complaint

Individuals who wish to file an employment complaint must contact their agency's Equal Employment Opportunity (EEO) Counselor within 45 days of the date of the alleged discriminatory act, event, or in the case of a personnel action. Additional information can be found online at http://www.ascr.usda.gov/complaint_filing_file.html.

Individuals who wish to file a Civil Rights program complaint of discrimination must complete the USDA Program Discrimination Complaint Form (PDF), found online at http://www.ascr.usda.gov/complaint_filing_cust.html, or at any USDA office, or call (866) 632-9992 to request the form. A letter may also be written containing all of the information requested in the form. Send the completed complaint form or letter by mail to the U.S. Department of Agriculture, Director, Office of Adjudication, 1400 Independence Avenue SW, Washington, DC 20250-9410, by fax (202) 690-7442 or email at program.intake@usda.gov.

3. Persons With Disabilities

Individuals who are deaf, hard of hearing or have speech disabilities and wish to file either an EEO or program complaint may contact USDA through the Federal Relay Service at (800) 877-8339 (English) or (800) 845-6136 (Spanish).

Persons with disabilities who wish to file a program complaint, please see information above on how to contact USDA by mail or email. Individuals who require alternative means of communication for program information (e.g., Braille, large print, audiotape, etc.) may contact USDA's TARGET Center at (202) 720-2600 (voice and TDD).

Dated: December 8, 2015.
Brandon McBride,
Administrator, Rural Utilities Service.

[FR Doc. 2016-00405 Filed 1-11-16; 8:45 am]

BILLING CODE P